ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday through Wednesday, March 16-18, 2009, at the times and location noted below.

DATES: The schedule of events is as follows:

Monday, March 16, 2009

10-11:30 a.m. Technical Programs Committee

11:30-Noon Budget Committee

1:30-5 p.m. Ad Hoc Committee Meetings (Closed to Public)

Tuesday, March 17, 2009

9:30-Noon Planning and Evaluation Meeting (Closed to Public)

2-5 p.m. Ad Hoc Committee Meetings (Closed to Public)

Wednesday, March 18, 2009

9:30-11 a.m. Board Meeting

ADDRESSES: All meetings will be held at the Embassy Suites DC Convention Center Hotel, 900 10th Street, NW., Washington, DC.

FOR FURTHER INFORMATION CONTACT: For further information regarding the meetings, please contact David Capozzi, Executive Director, (202) 272-0010 (voice) and (202) 272-0082 (TTY).

SUPPLEMENTARY INFORMATION: At the Board meeting scheduled on Wednesday, March 18, the Access Board will consider the following agenda items:

• New Public Board Member; Swearing-in Ceremony.

• Approval of the Draft January 2009 Board Meeting Minutes.

• Election of Officers.

• Technical Programs Committee Report.

• Budget Committee Report.

• Planning and Evaluation Committee Report.

• Transportation Vehicles Ad Hoc Committee Report.

• Emergency Transportable Housing Ad Hoc Committee Report.

• Acoustics Ad Hoc Committee Report.

• Airport Terminal Access Ad Hoc Committee Report.

• Accessible Design in Education Ad Hoc Committee Report.

• Passenger Vessels Ad Hoc Committee Report.

• Information and Communications Technologies Ad Hoc Committee Report.

• Public Rights-of-Way Ad Hoc Committee Report.

• Outdoor Developed Areas Ad Hoc Committee Report.

• Election Assistance Commission Report.

All meetings are accessible to persons with disabilities. An assistive listening system, computer assisted real-time transcription (CART), and sign language interpreters will be available at the Board meeting. Persons attending Board meetings are requested to refrain from using perfume, cologne, and other fragrances for the comfort of other participants.

David M. Capozzi,
Executive Director.

[FR Doc. E9-3939 Filed 2-24-09; 8:45 am]

BILLING CODE 8150-01-P